ENVIRONMENTAL PROTECTION AGENCY

[EPA-HQ-OPP-2008-0416; FRL-8388-4]

Chromated Arsenicals, Pentachlorophenol, Creosote Reregistration Eligibility Decisions; Notice of Availability

AGENCY: Environmental Protection Agency (EPA).

ACTION: Notice.

SUMMARY: This notice announces the availability of EPA's Reregistration Eligibility Decision (REDs) for the pesticides chromated arsenicals (e.g., CCA), pentachlorophenol, and creosote, collectively referred to as “heavy duty wood preservatives.” The Agency's risk assessments and other related documents also are available in the chromated arsenicals, pentachlorophenol, and creosote Dockets. The term heavy duty wood preservative is used to differentiate wood preservatives applied using specialized high pressure treatment cylinders (also called “retorts”) from those applied using non-specialized methods (e.g., brush, dip). The three wood preservatives are used primarily for industrial purposes such as utility poles, pilings, and railroad ties. EPA has reviewed the heavy duty wood preservatives through the public participation process that the Agency uses to involve the public in developing pesticide reregistration and tolerance reassessment decisions. Through these programs, EPA is ensuring that all pesticides meet current health and safety standards.

FOR FURTHER INFORMATION CONTACT: For pesticide-specific information contact the Chemical Review Manger identified in the Table in Unit II. for the pesticide of interest.

For general information contact: Lance Wormell, Antimicrobials Division (7510P), Office of Pesticide Programs, Environmental Protection Agency, 1200 Pennsylvania Ave., NW., Washington, DC 20460-0001; telephone number: (703) 603-0523; fax number: (703) 308-6467; e-mail address: wormell.lance@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0416. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Under section 4 of the Federal Insecticide, Fungicide, and Rodenticide Act (FIFRA), EPA is reevaluating existing pesticides to ensure that they meet current scientific and regulatory standards. EPA has completed REDs for the pesticides, chromated arsenicals, pentachlorophenol, and creosote under section 4(g)(2)(A) of FIFRA. These heavy duty wood preservatives are applied using specialized high pressure treatment cylinders (also called “retorts”) and treated products are used primarily for industrial purposes such as utility poles, pilings, and railroad ties. EPA has determined that the data base to support reregistration is substantially complete and that products containing chromated arsenicals, pentachlorophenol, and creosote are eligible for reregistration, provided the risks are mitigated either in the manner described in the REDs or by other means that achieve equivalent risk reduction. Upon submission of any required product specific data under section 4(g)(2)(B) of FIFRA and any necessary changes to the registration and labeling (either to address concerns identified in the REDs or as a result of product specific data), EPA will make final reregistration decisions under section 4(g)(2)(C) of FIFRA for products containing chromated arsenicals, pentachlorophenol, and creosote.

Table 1.—Reregistration Eligibility Decision Dockets Opening
Registration Case Name and Number | Docket ID Number | Chemical Review Manager, Telephone Number, and E-mail Address
Chromated arsenicals, 0132 | EPA-HQ-OPP-2003-0250 | Lance Wormell, (703) 603-0523, wormell.lance@epa.gov
Pentachlorophenol, 2505 | EPA-HQ-OPP -2004-0402 | Diane Isbell, (703) 308-8154, isbell.diane@epa.gov
Creosote, 0139 | EPA-HQ-OPP-2003-0248 | Jacqueline Campbell-McFarlane, (703) 308-6416, campbell-mcfarlane.jacqueline@epa.gov

Although the chromated arsenicals, pentachlorophenol, and creosote REDs were signed on September 25, 2008, certain components of the document, which did not affect the final regulatory decision, were undergoing final editing at that time. These components, including the list of additional generic and product-specific data requirements, appendices, minor typographical edits, and other relevant information, have been added to the chromated arsenicals, pentachlorophenol, and creosote RED documents.

EPA is applying the principles of public participation to all pesticides undergoing reregistration and tolerance reassessment. The Agency's Pesticide Tolerance Reassessment and Reregistration; Public Participation Process, published in the Federal Register on May 14, 2004, (69 FR 26819) (FRL-7357-9) explains that in conducting these programs, EPA is tailoring its public participation process to be commensurate with the level of risk, extent of use, complexity of issues, and degree of public concern associated with each pesticide. Due to its uses, risks, and other factors, chromated arsenicals, pentachlorophenol, and creosote were reviewed through the full 6-Phase process. Through this process, EPA worked extensively with stakeholders and the public to reach the regulatory decisions for chromated arsenicals, pentachlorophenol, and creosote.

The reregistration program is being conducted under congressionally mandated time frames, and EPA recognizes the need both to make timely decisions and to involve the public. The Agency is not issuing the chromated arsenicals, pentachlorophenol, and creosote REDs for public comment because they were reviewed through the full 6-phase process which included two 60-day comment periods.

B. What is the Agency's Authority for Taking this Action?

Section 4(g)(2) of FIFRA, as amended, directs that, after submission of all data concerning a pesticide active ingredient, the Administrator shall determine whether pesticides containing such active ingredient are eligible for reregistration, before calling in product specific data on individual end-use products and either reregistering products or taking other “appropriate regulatory action.”

List of Subjects

Environmental protection, Pesticides and pests, antimicrobials, heavy duty wood preservatives.

Dated: November 12, 2008.
Joan Harrigan Farrelly,
Director, Antimicrobials Division, Office of Pesticide Programs.

FR Doc. E8-27307 Filed 11-18-08; 8:45 am

BILLING CODE 6560-50-S